DEPARTMENT OF ENERGY

Federal Energy Regulatory Commission

[Docket No. RP01-570-000]

Colorado Interstate Gas Company; Notice of Request for Waiver

September 7, 2001.

Take notice that on August 31, 2001, Colorado Interstate Gas Company filed requesting the Commission to grant waiver of Section 20.1(b)(iii) of the General Terms and Conditions of its Tariff to permit the true-up adjustment filing pertaining to the Gas Quality Control Surcharges for its Valley Line to be made on or before December 1, 2001.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23122 Filed 9-14-01; 8:45 am]

BILLING CODE 6717-01-P